Title 3—

The President

Proclamation 7392 of January 17, 2001

Boundary Enlargement and Modifications of the Buck Island Reef National Monument

By the President of the United States of America

A Proclamation

Buck Island Reef National Monument was established on December 28, 1961 (Presidential Proclamation 3443), just north of St. Croix in the U.S. Virgin Islands, for the purpose of protecting Buck Island and its adjoining shoals, rocks, and undersea coral reef formations. Considered one of the finest marine gardens in the Caribbean Sea, the unique natural area and the rare marine life which are dependent upon it are subject to the constant threat of commercial exploitation and destruction. The monument's vulnerable floral and faunal communities live in a fragile, interdependent relationship and include habitats essential for sustaining the tropical marine ecosystem: coral reefs, sea grass beds, octocoral hardbottom, sand communities, algal plains, shelf edge, and oceanic habitats. The boundary enlargement effected by this proclamation brings into the monument additional objects of scientific and historic interest, and provides necessary further protection for the resources of the existing monument.

The expansion area includes additional coral reefs (patch, pur and groove, and deep and wall), unusual “haystacks” of elkhorn coral, barrier reefs, sea grass beds, and sand communities, as well as algal plains, shelf edge, and other supporting habitats not included within the initial boundary. Oceanic currents carry planktonic larvae of coral reef associated animals to the shallow nearshore coral reef and sea grass habitats, where they transform into their juvenile stage. As they mature over months or years, they move offshore and take up residence in the deeper coral reefs, octocoral hardbottom, and algal plains. Between the monument's nearshore habitats and its shelf edge spawning sites are habitats that play essential roles during specific developmental stages of many reef-associated species, including spawning migrations of many reef fish species and crustaceans. Several threatened and endangered species forage, breed, nest, rest, or calve in the waters included in the enlarged monument, including humpback whales, pilot whales, four species of dolphins, brown pelicans, least terns, and the hawksbill, leatherback, and green sea turtles. Countless species of reef fishes, invertebrates, plants, and over 12 species of sea birds utilize this area.

The ecologically important shelf edge is the spawning site for many reef species, such as most groupers and snappers, and the spiny lobster. Plummeting to abyssal depths, this habitat of vertical walls, honeycombed with holes and caves, is home to deepwater species and a refuge for other species.

The expansion area also contains significant cultural and historical objects. In March 1797, the slave ship Mary, captained by James Hunter of Liverpool, sank in this area, and its cargo of 240 slaves was saved and brought to Christiansted. In March 1803, the General Abercrombie, captained by James Booth of Liverpool, also wrecked in this area, and its cargo of 339 slaves was brought to Christiansted. Slave shipwrecks in U.S. waters are rare. The monument contains remnants of these wrecks. Other wrecks may also exist in the monument.

Section 2 of the Act of June 8, 1906 (34 Stat. 225, 16 U.S.C. 431), authorizes the President, in his discretion, to declare by public proclamation historic landmarks, historic and prehistoric structures, and other objects of historic or scientific interest that are situated upon the lands owned or controlled by the Government of the United States to be national monuments, and to reserve as a part thereof parcels of land, the limits of which in all cases shall be confined to the smallest area compatible with the proper care and management of the objects to be protected.

WHEREAS it appears that it would be in the public interest to reserve such lands as an addition to the Buck Island Reef National Monument:

NOW, THEREFORE, I, WILLIAM J. CLINTON, President of the United States of America, by the authority vested in me by section 2 of the Act of June 8, 1906 (34 Stat. 225, 16 U.S.C. 431), do proclaim that there are hereby set apart and reserved as an addition to the Buck Island Reef National Monument, for the purpose of care, management, and protection of the objects of historic and scientific interest situated on lands within the said monument, all lands and interests in lands owned or controlled by the United States within the boundaries of the area described on the map entitled “Buck Island Reef National Monument Boundary Enlargement” attached to and forming a part of this proclamation. The Federal land and interests in land reserved consist of approximately 18,135 marine acres, which is the smallest area compatible with the proper care and management of the objects to be protected.

All Federal lands and interests in lands within the boundaries of this monument are hereby appropriated and withdrawn from all forms of entry, location, selection, sale, or leasing or other disposition under the public land laws, including but not limited to withdrawal from location, entry, and patent under the mining laws, and from disposition under all laws relating to mineral and geothermal leasing, other than by exchange that furthers the protective purposes of the monument.

For the purpose of protecting the objects identified above, the Secretary shall prohibit all boat anchoring, provided that the Secretary may permit exceptions for emergency or authorized administrative purposes, and may issue permits for anchoring in deep sand bottom areas, to the extent that it is consistent with the protection of the objects.

For the purposes of protecting the objects identified above, the Secretary shall prohibit all extractive uses. This prohibition supersedes the limited authorization for extractive uses included in Proclamation 3443 of December 28, 1961.

Lands and interests in lands within the monument not owned or controlled by the United States shall be reserved as a part of the monument upon acquisition of title or control thereto by the United States.

The Secretary of the Interior shall manage the monument through the National Park Service, pursuant to applicable legal authorities, to implement the purposes of this proclamation. The National Park Service will manage the monument in a manner consistent with international law.

The Secretary of the Interior shall prepare a management plan, including the management of vessels in the monument, within 2 years that will address any further specific actions necessary to protect the objects identified above.

The enlargement of this monument is subject to valid existing rights.

Nothing in this proclamation shall be deemed to revoke any existing withdrawal, reservation, or appropriation; however, the national monument shall be the dominant reservation.

Warning is hereby given to all unauthorized persons not to appropriate, injure, destroy, or remove any feature of this monument and not to locate or settle upon any of the lands thereof.

IN WITNESS WHEREOF, I have hereunto set my hand this seventeenth day of January, in the year of our Lord two thousand one, and of the Independence of the United States of America the two hundred and twenty-fifth.

Billing code 3195-01-P

[FR Doc. 01-2097

Filed 1-19-01; 8:45 am]

Billing code 3195-01-C